INTERNATIONAL TRADE COMMISSION

[Investigation Nos. 731-TA-1131-1134 (Final)]

Polyethylene Terephthalate Film, Sheet, and Strip From Brazil, China, Thailand, and the United Arab Emirates; Determinations

On the basis of the record ¹ developed in the subject investigations, the United States International Trade Commission (Commission) determines, pursuant to section 735(b) of the Tariff Act of 1930 (19 U.S.C. 1673d(b)) (the Act), that an industry in the United States is threatened with material injury by reason of imports from Brazil, China, and the United Arab Emirates (“UAE”) of polyethylene terephthalate film, sheet, and strip (“PET film”), provided for in subheading 3920.62.00 of the Harmonized Tariff Schedule of the United States, that have been found by the Department of Commerce (“Commerce”) to be sold in the United States at less than fair value (“LTFV”).² In addition, the Commission determines that it would not have found material injury but for the suspension of liquidation.

¹ The record is defined in Sec. 207.2(f) of the Commission's Rules of Practice and Procedure (19 CFR 207.2(f)).

² Commissioner Charlotte R. Lane determines that an industry in the United States is materially injured by reason of imports of PET film from Brazil, China, Thailand, and the United Arab Emirates.

The Commission further determines that an industry in the United States is not materially injured or threatened with material injury, and the establishment of an industry in the United States is not materially retarded by reason of imports from Thailand of PET film that have been found by Commerce to be sold in the United States at LTFV.²

Background

The Commission instituted this investigation effective September 28, 2007, following receipt of a petition filed with the Commission and Commerce by DuPont Teijin Films, Hopewell, VA; Mitsubishi Polyester Film of America, Greer, SC; SKC America, Inc., Covington, GA; and Toray Plastics (America), Inc., North Kingston, RI. The final phase of the investigations was scheduled by the Commission following notification of a preliminary determination by Commerce that imports of polyethylene terephthalate from Brazil, China, Thailand, and the UAE were being sold at LTFV within the meaning of section 733(b) of the Act (19 U.S.C. 1673d(b)). Notice of the scheduling of the final phase of the Commission's investigations and of a public hearing to be held in connection therewith was given by posting copies of the notice in the Office of the Secretary, U.S. International Trade Commission, Washington, DC, and by publishing the notice in the Federal Register of June 26, 2008 (73 FR 36353). The hearing was held in Washington, DC, on September 18, 2008, and all persons who requested the opportunity were permitted to appear in person or by counsel.

The Commission transmitted its determinations in these investigations to the Secretary of Commerce on October 31, 2008. The views of the Commission are contained in USITC Publication 4040 (October 2008), entitled Polyethylene Terephthalate Film, Sheet, and Strip from Brazil, China, Thailand, and the United Arab Emirates: Investigation Nos. 731-TA-1131-1134 (Final).

By order of the Commission.
Issued: November 3, 2008.
Marilyn R. Abbott,
Secretary to the Commission.

[FR Doc. E8-26516 Filed 11-5-08; 8:45 am]

BILLING CODE 7020-02-P